ENVIRONMENTAL PROTECTION AGENCY

40 CFR Part 180

Tolerances and Exemptions for Pesticide Chemical Residues in Food

CFR Correction

In Title 40 of the Code of Federal Regulations, parts 150 to 189, revised as of July 1, 2016, on page 612, in § 180.495, in the table in paragraph (a), the second entry for “Grape, raisin” is removed.

[FR Doc. 2017-09487 Filed 5-9-17; 8:45 am]

BILLING CODE 1301-00-D